DEPARTMENT OF HOUSING AND URBAN DEVELOPMENT

[Docket No. FR-5601-N-37]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Air Force: Mr. Robert Moore, Air Force Real Property Agency, 143 Billy Mitchell Blvd., San Antonio, TX 78226, (210) 925-3047; GSA: Mr. Flavio Peres, General Services Administration, Office of Real Property Utilization and Disposal, 1800 F Street NW., Room 7040 Washington, DC 20405, (202) 501-0084; Interior: Mr. Michael Wright, Acquisition & Property Management, Department of the Interior, 1801 Pennsylvania Ave. NW., 4th Floor, Washington, DC 20006: 202-254-5522; Navy: Mr. Steve Matteo, Department of the Navy, Asset Management Division, Naval Facilities Engineering Command, Washington Navy Yard, 1330 Patterson Ave. SW., Suite 1000, Washington, DC 20374; (These are not toll-free numbers).

Dated: September 13, 2012.
Ann Marie Oliva,
Deputy Assistant Secretary for Special Needs (Acting).

TITLE V, FEDERAL SURPLUS PROPERTY PROGRAM FEDERAL REGISTER REPORT FOR 09/21/2012

Suitable/Available Properties

Building

Alabama

Travel Trailer

Horseshoe Bend Nat'l Park

Daviston AL 36256

Landholding Agency: Interior

Property Number: 61201230013

Status: Unutilized

Comments: Off-site removal only; 20'2”W x 40'L; empty; fair conditions; wheels, tires, & axle must be replaced; located in restricted area; contact Interior for details on property & accessibility

Arkansas

Winnesburg Radio Station

SW Side of State Hwy 18 & County Rd.

Cash AR 72421

Landholding Agency: GSA

Property Number: 54201230013

Status: Excess

GSA Number: 7-B-AR-0577

Comments: 9'8″ x 15'5″; storage/office; fair conditions; need repairs

California

Terrace Kitchen/Clubhouse

Yosemite Nat'l Park-Curry Village

Yosemite CA 95389

Landholding Agency: Interior

Property Number: 61201230003

Status: Unutilized

Comments: UPDATE Off-site removal only; removal maybe improbable due to location/condition; extensive deterioration; Hanta virus; need remediation & repairs; 1,067sf. rock-fall zone; alternative method to access

Terrace Restroom

Yosemite Nat'l Park-Curry Village

Yosemite CA 95389

Landholding Agency: Interior

Property Number: 61201230004

Status: Unutilized

Comments: UPDATE: Off-site removal only; removal maybe improbable due to location/condition; extensive deterioration; Hanta virus; need remediation & repairs; 514 sf.; rock-fall zone; alternative method to access

Tressider House

Yosemite Nat'l Park-Curry Village

Yosemite CA 95389

Landholding Agency: Interior

Property Number: 61201230005

Status: Unutilized

Comments: UPDATE: Off-site removal only; removal maybe improbable due to location/condition; extensive deterioration; Hanta virus; need remediation & repairs; 1,018 sf.; rock-fall zone; alternative method to access

Rock Restroom

Yosemite Nat'l Park-Curry Village

Yosemite CA 95389

Landholding Agency: Interior

Property Number: 61201230006

Status: Unutilized

Comments: UPDATE: Off-site removal only; removal maybe improbable due to location/condition; extensive deterioration; Hanta virus; need remediation & repairs; 558 sf.; rock-fall zone; alternative method to access

Nob Hill Shower House

Yosemite Nat'l Park

Yosemite CA 95389

Landholding Agency: Interior

Property Number: 61201230007

Status: Unutilized

Comments: UPDATE: Off-site removal only; removal maybe improbable due to location/condition; moderate conditions; Hanta virus; need remediation & repairs; 2,673 sf.; rock-fall zone; alternative method to access

19 Buildings

Duplex Cabins

Yosemite CA 95389

Landholding Agency: Interior

Property Number: 61201230009

Status: Unutilized

Directions: 30A/B,31A/B,50A/B,51A/B,52A/B,53A/B,54A/B,60A/B,62A/B,63A/B,65A/B,70A/B,71A/B,72A/B,73A/B,74A/B,75A/B,76A/B,80A/B

Comments: UPDATE: Off-site removal only; removal maybe improbable due to location/condition; extensive deterioration; Hanta virus; need remediation & repairs; 513 sf.; rock-fall zone; alternative method to access

33 Buildings

Duplex Cabins

Yosemite CA 95389

Landholding Agency: Interior

Property Number: 61201230010

Status: Unutilized

Directions: 214-218,223-229,236-247,250-251,254,257-270,273,275-282,286-299

Comments: UPDATE: Off-site removal only; removal maybe improbable due to location/condition; extensive deterioration; Hanta virus; need remediation & repairs; 342sf. rock-fall zone; alternative method to access

OX Office & Ranch House

Mojave Nat'l Preserve

Cima CA 92309

Landholding Agency: Interior

Property Number: 61201230016

Status: Excess

Comments: Off-site removal only; 720sf. & 1,500sf. respectively; trailers; extensive deterioration & potential Hanta virus infestation; remediation required to safety occupy; contact Interior for more details

Florida

4 Structures

142 Keeper's Cottage Way

Cape San Blas FL 32456

Landholding Agency: GSA

Property Number: 54201230008

Status: Surplus

GSA Number: 4-D-FL-1265AA

Directions: Cape San Blas Lighthouse, Keeper's Quarters A, Keeper's Quarter B, & an Oil/Storage Shed

Comments: UPDATE: Originally published on 8/24/2012. Availability extended to 11/06/2012 due to subsequent posting of outreach notice on 9/07/12. Off-site removal only, must remain together; eligible as Historic & conveyed w/a historic covenant; transferee must maintain structures in accordance w/covenant; repairs needed, contact GSA for details.

Land

Missouri

SWPA-Jenkins Antenna Site

Barry County

Jenkins MO

Landholding Agency: GSA

Property Number: 54201230011

Status: Surplus

GSA Number: 7-B-MO-0696

Comments: 0.06 acres; surrounded by 5.18 acre easement that will be lifted when property is conveyed out of Fed. inventory; access to property by appt. only

Utah

BLM Kanab Field Office

318 N. 100 East

Kanab UT 84741

Landholding Agency: GSA

Property Number: 54201230012

Status: Surplus

GSA Number: 7-I-UT-0528

Directions: Includes 6,192 sf. office bldg.; 4,800 sf. warehouse; 1,120 sf. storage/shed on property

Comments: 2.8 acre w/three bldgs.; access to property by appt. only; friable asbestos; remediation needed

Unsuitable Properties Building

Alaska

Bldg. 1425

Fire Island Communication Facility

N/A AK

Landholding Agency: GSA

Property Number: 54201230014

Status: Excess

GSA Number: 9-J-AK-0841

Comments: Property located on small offshore island

Reasons: Not accessible by road

California

Aiken Mine Trailer

Mojave Nat'l Preserve

Baker CA

Landholding Agency: Interior

Property Number: 61201230012

Status: Excess

Comments: Documented deficiencies; severe structural damage; entire roof destroyed; exterior & interior vandalized beyond repair; wiring stripped; floors severe damaged; economical infeasible to repair

Reasons: Extensive deterioration

Parcel 13

Sec. 23rd Ave. & unnamed road W. of Penn. Ave

Port Hueneme CA 93043

Landholding Agency: Navy

Property Number: 77201230028

Status: Underutilized

Comments: Located w/in the controlled perimeter of a military installation at NBVC where public access denied & no alternative method w/out compromising nat'l security

Reasons: Secured Area

Marshalling Yard

E. of Patterson Rd., N. of 23rd Ave.

Port Huneme CA 93043

Landholding Agency: Navy

Property Number: 77201230029

Status: Underutilized

Comments: Located w/in a controlled perimeter of a DoD installation where public access denied & no alternative method to gain access w/out compromising nat'l security

Reasons: Secured Area

Minnesota

Hautamaki Property

Voyageurs Nat'l Park

St. Louis County MN

Landholding Agency: Interior

Property Number: 61201230014

Status: Excess

Comments: Property located on small offshore island

Reasons: Not accessible by road

Pavek Property

Voyageurs Nat'l Park

Dove Bay MN

Landholding Agency: Interior

Property Number: 61201230015

Status: Excess

Comments: Property located on small off-shore island

Reasons: Not accessible by road

Wyoming

Bldg. 1200

1105 Wyoming Street

FE Warren AFB WY 82005

Landholding Agency: Air Force

Property Number: 18201230006

Status: Underutilized

Comments: Located on restricted military installation; public access denied & no alternative method to gain access w/out compromising nat'l security

Reasons: Secured Area

Land

California

Parcel 12

NEC Track 13 & Lehman Rd.

Port Hueneme CA 93043

Landholding Agency: Navy

Property Number: 77201230027

Status: Underutilized

Comments: Located within a controlled perimeter of a DoD installation where public access is denied & no alternative method to gain access w/out compromising nat'l security

Reasons: Secured Area

[FR Doc. 2012-22989 Filed 9-20-12; 8:45 am]

BILLING CODE 4210-67-P